ENVIRONMENTAL PROTECTION AGENCY

[FRL OP-OFA-154]

Environmental Impact Statements; Notice of Availability

Responsible Agency: Office of Federal Activities, General Information 202-564-5632 or https://www.epa.gov/nepa.

Weekly receipt of Environmental Impact Statements (EIS)

Filed November 18, 2024 10 a.m. EST Through November 22, 2024 10 a.m. EST.

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240222, Draft, FERC, AL, R.L. Harris Hydroelectric Project, Comment Period Ends: 01/21/2025, Contact: Office of External Affairs 866-208-3372.

EIS No. 20240223, Draft, BLM, OR, Louse Canyon Geographic Management Area, Comment Period Ends: 01/13/2025, Contact: Michele McDaniel 541-473-3144.

EIS No. 20240224, Final, USACE, MS, Yazoo Backwater Area Water Management Project, Review Period Ends: 12/30/2024, Contact: George Renacker 601-631-5842.

Dated: November 22, 2024
Mark Austin,
Acting Director, NEPA Compliance Division Office of Federal Activities.

[FR Doc. 2024-28037 Filed 11-27-24; 8:45 am]

BILLING CODE 6560-50-P